ENVIRONMENTAL PROTECTION AGENCY

40 CFR Part 52

[EPA-R03-OAR-2023-0381; EPA-R03-OAR-2023-0380; FRL-9822-02-R3]

Air Plan Approval; West Virginia; 2006 24-Hour Fine Particulate Matter Limited Maintenance Plans for the Charleston Area and the West Virginia Portion of the Steubenville-Weirton Area

AGENCY: Environmental Protection Agency (EPA).

ACTION: Final rule.

SUMMARY: The Environmental Protection Agency (EPA) is approving state implementation plan (SIP) revisions submitted by the State of West Virginia through the West Virginia Department of Environmental Protection (WVDEP). The revisions pertain to second 10-year limited maintenance plans (LMPs) for the 2006 24-hour fine particulate matter (PM2.5) national ambient air quality standard (NAAQS). The LMPs address the Charleston, West Virginia area (Charleston Area) and the West Virginia portion of the Steubenville-Weirton, Ohio-West Virginia area (West Virginia portion of the Steubenville-Weirton Area). EPA is approving the Charleston Area LMP and the West Virginia portion of the Steubenville-Weirton Area LMP because they provide for the maintenance of the 2006 24-hour PM2.5 NAAQS through the end of their respective second 10-year maintenance periods. In addition, EPA is finalizing the process to find the LMPs adequate for transportation conformity purposes. EPA is approving these revisions to the West Virginia SIP in accordance with the requirements of the Clean Air Act (CAA).

DATES: This final rule is effective on July 15, 2024.

ADDRESSES: EPA has established dockets for these actions under Docket ID No. EPA-R03-OAR-2023-0381 (Charleston Area) and EPA-R03-OAR-2023-0380 (West Virginia portion of the Steubenville-Weirton Area). All documents in the dockets are listed on the www.regulations.gov website. Although listed in the index, some information is not publicly available, e.g., confidential business information (CBI) or other information whose disclosure is restricted by statute. Certain other material, such as copyrighted material, is not placed on the internet and will be publicly available only in hard copy form. Publicly available docket materials are available through www.regulations.gov, or please contact the person identified in the FOR FURTHER INFORMATION CONTACT section for additional availability information.

FOR FURTHER INFORMATION CONTACT: Ellen Schmitt, Planning & Implementation Branch (3AD30), Air & Radiation Division, U.S. Environmental Protection Agency, Region III, 1600 John F. Kennedy Boulevard, Philadelphia, Pennsylvania 19103. The telephone number is (215) 814-5787. Ms. Schmitt can also be reached via electronic mail at schmitt.ellen@epa.gov.

SUPPLEMENTARY INFORMATION:

I. Background

On November 13, 2009 (74 FR 58688), EPA designated the Charleston (West Virginia) Area and the Steubenville-Weirton (Ohio-West Virginia) Area as nonattainment for the 2006 24-hour PM2.5 NAAQS.¹ See 74 FR 58775 (November 13, 2009) and 40 CFR 81.349 (Charleston, West Virginia) and, also see 40 CFR 81.336 (Steubenville-Weirton, Ohio) and 40 CFR 81.349 (Steubenville-Weirton, West Virginia).

¹ On October 17, 2006 (71 FR 61144), EPA lowered the level of the 24-hour PM2.5 NAAQS to 35 µg/m³ based on a 3-year average of the annual 98th percentile values of 24-hour concentrations.

WVDEP submitted to EPA a redesignation request for the Charleston Area on December 6, 2012 and for the West Virginia portion of the Steubenville-Weirton Area on June 8, 2012. EPA redesignated the Charleston Area and the West Virginia portion of the Steubenville-Weirton Area to attainment for the 2006 24-hour PM2.5 NAAQS on March 31, 2014 (79 FR 17884) and on March 18, 2014 (79 FR 15019), respectively, and approved the associated maintenance plans into the West Virginia SIP.

On March 29, 2022, WVDEP, on behalf of the State of West Virginia, submitted two LMPs to fulfill the second 10-year planning requirement of CAA section 175A(b) to ensure PM2.5 NAAQS compliance for the Charleston Area and the West Virginia portion of the Steubenville-Weirton Area. These LMPs are designed to maintain the 2006 24-hour PM2.5 NAAQS within their respective areas through the end of the second 10-year portion of the maintenance period beyond redesignation or 2034. EPA is approving the plans because they meet all applicable requirements under CAA sections 110 and 175A. As a general matter, the LMPs rely on the same control measures and contingency provisions to maintain the 2006 24-hour PM2.5 NAAQS during the second 10-year portion of the maintenance period as the maintenance plans submitted by WVDEP for the first 10-year period. On March 27, 2024 (89 FR 21222), EPA published a notice of proposed rulemaking (NPRM) for the State of West Virginia, proposing approval of the LMPs because the State made a showing, consistent with EPA's LMP guidance, that the areas' PM2.5 concentrations are well below the 2006 24-hour PM2.5 NAAQS, have been historically stable, and that it has met all other maintenance plan requirements.

Additionally, in the March 27, 2024, action, EPA proposed that the LMPs demonstrated that it is unreasonable to expect that these areas would experience enough motor vehicle emissions growth for a violation of the NAAQS to occur, per EPA's transportation conformity regulations.²

² See 40 CFR 93.109(e).

Further explanation of the CAA requirements, a detailed analysis of the revisions, and EPA's reasons for proposing approval were provided in the NPRM. The public comment period for the proposed rulemaking ended on April 26, 2024. EPA received no comments on the proposal and is finalizing our action as proposed.

II. Final Action

In accordance with sections 110(k) and 175A of the CAA, and for the reasons set forth in the NPRM, EPA is finalizing approval of West Virginia's second 10-year LMPs for the Charleston Area and the West Virginia portion of the Steubenville-Weirton Area for the 2006 24-hour PM2.5 NAAQS. EPA's review of the air quality data for the areas indicate that they continue to show attainment well below the level of the 2006 PM2.5 NAAQS and meet all the LMP qualifying criteria set forth in the PM2.5 LMP Guidance. EPA finds the 2006 24-hour PM2.5 LMPs for the Charleston Area and the West Virginia portion of the Steubenville-Weirton Area to be sufficient to provide for maintenance of the 2006 24-hour PM2.5 NAAQS in their respective areas over the second 10-year maintenance period, through 2034, and thereby satisfy the requirements for such a plan under CAA section 175A(b). EPA is approving these second 10-year LMPs and notifying the public that EPA finds the LMPs adequate for transportation conformity purposes because they meet the adequacy criteria in 40 CFR 93.118(e)(4). After 2024, the motor vehicle emissions in these areas may be treated as essentially not constraining for the second 10-year maintenance period because EPA concludes that it is unreasonable to expect that the area will experience enough motor vehicle emissions growth that a violation of the PM2.5 NAAQS would result. Therefore, all actions for transportation plans and transportation improvement programs that would require a transportation conformity determination for the Charleston Area or for the West Virginia portion of the Steubenville-Weirton Area under EPA's transportation conformity rule provisions are considered to have already satisfied the regional emissions analysis requirements in 40 CFR 93.118. See 40 CFR 93.109(e). The applicable areas will no longer be required to perform regional emissions analyses as part of the conformity process, but must meet project-level conformity analyses requirements as well as other transportation conformity criteria. EPA is approving these second maintenance plans as revisions to the West Virginia SIP.

III. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act;

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

WVDEP did not evaluate environmental justice considerations as part of its SIP submissions; the CAA and applicable implementing regulations neither prohibit nor require such an evaluation. EPA did not perform an EJ analysis and did not consider EJ in this final rule. Due to the nature of the action being taken here, this rule is expected to have a neutral to positive impact on the air quality of the affected area. Consideration of EJ is not required as part of this action, and there is no information in the record inconsistent with the stated goal of E.O. 12898 of achieving environmental justice for people of color, low-income populations, and Indigenous peoples.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by August 12, 2024. Filing a petition for reconsideration by the Administrator of this final rule does not affect the finality of this action for the purposes of judicial review nor does it extend the time within which a petition for judicial review may be filed, and shall not postpone the effectiveness of such rule or action. This action approving the Charleston Area LMP and the West Virginia portion of the Steubenville-Weirton Area LMP may not be challenged later in proceedings to enforce its requirements. (See section 307(b)(2) of the CAA.)

List of Subjects in 40 CFR Part 52

Environmental protection, Air pollution control, Incorporation by reference, Intergovernmental relations, Particulate matter, Reporting and recordkeeping requirements.

Adam Ortiz,
Regional Administrator, Region III.

For the reasons stated in the preamble, EPA amends 40 CFR part 52 as follows:

PART 52—APPROVAL AND PROMULGATION OF IMPLEMENTATION PLANS

1. The authority citation for part 52 continues to read as follows:

Authority: 42 U.S.C. 7401 et seq.

Subpart XX—West Virginia

2. In § 52.2520, the table in paragraph (e) is amended by adding the entries for “2006 24-hour PM2.5 Standard Second Maintenance Plan for the West Virginia Portion of the Steubenville-Weirton OH-WV Area” and “2006 24-hour PM2.5 Standard Second Maintenance Plan for the Charleston Area” at the end of the table to read as follows:

§ 52.2520 Identification of plan.

* * * * *

(e) * * *

Name of non-regulatory SIP revision | Applicable geographic area | State submittal date | EPA approval date | Additional explanation
* * * * * * *
2006 24-hour PM2.5 Standard Second Maintenance Plan for the West Virginia Portion of the Steubenville-Weirton OH-WV Area | Brooke and Hancock Counties | March 29, 2022 | June 13, 2024, [INSERT FEDERAL REGISTER CITATION] | 2nd maintenance plan (limited maintenance plan).
2006 24-hour PM2.5 Standard Second Maintenance Plan for the Charleston Area | Kanawha and Putnam Counties | March 29, 2022 | June 13, 2024, [INSERT FEDERAL REGISTER CITATION] | 2nd maintenance plan (limited maintenance plan).

[FR Doc. 2024-12962 Filed 6-12-24; 8:45 am]

BILLING CODE 6560-50-P